DEPARTMENT OF THE TREASURY

Internal Revenue Service

Proposed Collection: Comment Request for Form TD F 90-22.1

AGENCY: Internal Revenue Service (IRS), Treasury.

ACTION: Notice and request for comments.

SUMMARY: The Department of the Treasury, as part of its continuing effort to reduce paperwork and respondent burden, invites the general public and other Federal agencies to take this opportunity to comment on proposed and/or continuing information collections, as required by the Paperwork Reduction Act of 1995, Public Law 104-13 (44 U.S.C. 3506(c)(2)(A)). Currently, the IRS is soliciting comments concerning Form TD F 90-22.1, Report of Foreign Bank and Financial Accounts.

DATES: Written comments should be received on or before May 15, 2006 to be assured of consideration.

ADDRESSES: Direct all written comments to Elizabeth Witzgall at Internal Revenue Service, 5000 Ellin Road # C-3 242, Lanham MD 20706.

FOR FURTHER INFORMATION CONTACT: Requests for additional information or copies of the form and instructions should be directed to Elizabeth Witzgall, at (202) 283-2227, or at Internal Revenue Service, 5000 Ellin Road # C-3 242, Lanham MD 20706 or through the Internet, at Elizabeth.B.Witzgall@irs.gov.

SUPPLEMENTARY INFORMATION: Title: Report of Foreign Bank and Financial Accounts.

OMB Number: 1545-0009.

Form Number: TD F 90-22.1.

Abstract: Form TD F 90-22.1 is used to report a financial interest in, signature authority or other authority over one or more financial accounts in foreign countries as required by 31 U.S.C. 5314 and the Department of the Treasury Regulations (31 CFR part 103). No report is required if the aggregate value of the accounts did ot exceed $10,000. The data is required because of its high degree of usefulness in criminal, tax, or regulatory investigations or proceedings, or in the conduct of intelligence or counterintelligence activities, including analysis, to protect against international terrorism.

Current Actions: Revisions have been made to the form and the instructions. The ownership of the form is changed wtihin the Department of the Treasury to the Internal Revenue Service.

Type of Review: Revision of a currently approved collection.

Affected Public: United States persons including both legal entities and individuals who are citizens or residents of the United States.

Estimated Number of Respondents: 282,000.

Estimated Time per Respondent: 20 minutes.

Estimated Total Annual Burden Hours: 94,000.

The following paragraph applies to all of the collections of information covered by this notice:

An agency may not conduct or sponsor, and a person is not required to respond to, a collection of information unless the collection of information displays a valid OMB control number. Books or records relating to a collection of information under 31 U.S.C. 5314 must be retained for a period of five years under 31 CFR 38(d). Generally information provided in this report shall be available to law enforcement for a purpose that is consistent with 31 U.S.C. 5311, however this report and records of reports are exempt from disclosure under 5 U.S.C. 552, the Freedom of Information Act.

Request for Comments: Comments submitted in response to this notice will be summarized and/or included in the request for OMB approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information.

Sandra Stolt,
IRS SB/SE BSA Compliance Policy Program Manager.

[FR Doc. 06-2541 Filed 3-15-06; 8:45 am]

BILLING CODE 4830-01-M